DEPARTMENT OF TRANSPORTATION

Federal Highway Administration

Intelligent Transportation Society of America; Public Meeting

AGENCY: Federal Highway Administration (FHWA), DOT.

ACTION: Notice of Public Meeting.

SUMMARY: The Intelligent Transportation Society of America (ITS AMERICA) will hold a meeting of its Board of Directors on Thursday, May 4, 2000. The meeting begins at 1:00 p.m. The letter designations that follow each item mean the following: (I) is an information item; (A) is an action item; (D) is a discussion item. The General Session includes the following items: (1) Introductions and ITS America Antitrust Policy and Conflict of Interest Statements (I); (2) Review & Acceptance of Election Results: Installation of New Board Members (A); (3) Presentation of Nominees for Officers of the Board (I); (4) Acceptance of Other Nominations for Officers and Directors of the 2000-2001 Board of Directors (A); (5) Introductions (I); (6) Review & Approval of January 13, 2000 Board Meeting #33 Minutes; (7) Appointment of the Coordinating Council Officers & At-Large (I/A); (8) Report on New Coordinating Council Committee/Task Force Chairmen; (9) Appointment of State Chapters Council Officers (I); (10) Federal ITS Initiatives Report (I/D); (11) Coordinating Council Report (I); (12) State Chapters Council Report/Reorganization Proposal (I); (13) International Affairs Council Report (I);

(14) ITS Research Agenda Activity (I); (15) Reports of the Board Task Force Chairpersons (I/D/A as appropriate): 5.9 Gigahertz—Deliberation on 5.9GHz Advice Letter to U.S.DOT; Wireless—Report on Wireless Opportunities; Marketing Strategy for ITS America; TEA-21 Revisited; (16) Report on June 2000 Legislative Conference (I/D); (17) President's Report (External Issues) (I); (18) Other Business.

Business Session (US DOT participants excused; Board Members, ITS America Members and Staff Only.) (19) Report of the Audit Committee (I); (20) Report of the ITS America Trade Association (I/D/A); (21) Nominating Committee Recommendations on Board Size and Composition (I/A); (22) President's Report (Internal Issues) (I); (23) Appointment of New Board of Directors Committees (I/A); (24) Other Business; (25) Adjournment until August 6-8, 2000, Board of Directors Workshop & Meeting #35 in Miami, Florida. Board of Directors, Annual Meeting & World Congress Schedules (I).

ITS AMERICA provides a forum for national discussion and recommendations on ITS activities including programs, research needs, strategic planning, standards, international liaison, and priorities.

The charter for the utilization of ITS AMERICA establishes this organization as an advisory committee under the Federal Advisory Committee Act (FACA) 5 USC app. 2, when it provides advice or recommendations to DOT officials on ITS policies and programs. (56 FR 9400, March 6, 1991).

DATES: The Board of Directors of ITS AMERICA will meet on Thursday, May 4, 2000, from 1 p.m.-5 p.m. Room TBA.

ADDRESSES: Sheraton Boston Hotel, 39 Dalton Street, Boston, MA. Phone: (617) 236-2000 and Fax: (617) 236-1702.

FOR FURTHER INFORMATION CONTACT: Materials associated with this meeting may be examined at the offices of ITS AMERICA, 400 Virginia Avenue SW, Suite 800, Washington, DC 20024. Persons needing further information or who request to speak at this meeting should contact Marlene Vence-Crampton at ITS AMERICA by telephone at (202) 484-2904 or by FAX at (202) 484-3483. The DOT contact is Kristy Frizzell, FHWA, HOIT, Washington, DC 20590, (202) 366-9536. Office hours are from 8:30 a.m. to 5 p.m., e.t., Monday through Friday, except for legal holidays.

(23 U.S.C. 315; 49 CFR 1.48)
Issued on: March 27, 2000.
Jeffrey Paniati,
Deputy Director, ITS Joint Program Office.

[FR Doc. 00-7957 Filed 3-30-00; 8:45 am]

BILLING CODE 4910-22-P